DEPARTMENT OF STATE

[Public Notice: 12347]

Advisory Committee on Historical Diplomatic Documentation—Notice of Closed and Open Meetings for June 2024

SUMMARY: The Advisory Committee on Historical Diplomatic Documentation will meet in person in open and closed sessions to discuss matters concerning declassification and transfer of Department of State records to the National Archives and Records Administration and the status of the Foreign Relations series.

DATES: June 10-11, 2024. RSVP and requests for reasonable accommodation for the meeting should be sent not later than June 3, 2024.

ADDRESSES: Open session for the meeting will take place from 10 a.m. until noon in SA-4D Conference Room 109, Department of State, 2300 E Street NW, Washington, DC 20372 (Potomac Navy Hill Annex), with a virtual option on June 10, 2024.

FOR FURTHER INFORMATION CONTACT: Questions concerning the meeting should be directed to Adam M. Howard, Executive Secretary, Advisory Committee on Historical Diplomatic Documentation, Department of State, Office of the Historian, Washington, DC 20372, telephone (202) 955-0214, (email: history@state.gov).

SUPPLEMENTARY INFORMATION:

Closed Sessions. The Committee's sessions in the afternoon of Monday, June 10, 2024, and in the morning of Tuesday, June 11, 2024, will be closed in accordance with section 10(d) of the Federal Advisory Committee Act (Pub. L. 92-463). The agenda calls for discussions of agency declassification decisions concerning the Foreign Relations series and other declassification issues. These are matters properly classified and not subject to public disclosure under 5 U.S.C. 552b(c)(1) and the public interest requires that such activities be withheld from disclosure.

RSVP Instructions. Prior notification and a valid government-issued photo ID (such as driver's license, passport, U.S. Government or military ID) are required for entrance into the Department of State building. Members of the public planning to attend the open meetings should RSVP, by the dates indicated above, to Julie Fort, Office of the Historian (202-955-0214). When responding, please provide date of birth, valid government-issued photo identification number and type (such as driver's license number/state, passport number/country, or U.S. Government ID number/agency or military ID number/branch), and relevant telephone numbers. If you cannot provide one of the specified forms of ID, please consult with Julie Fort for acceptable alternative forms of picture identification.

Personal data is requested pursuant to Public Law 99-399 (Omnibus Diplomatic Security and Antiterrorism Act of 1986), as amended; Public Law 107-56 (USA PATRIOT Act); and Executive Order 13356. The purpose of the collection is to validate the identity of individuals who enter Department facilities. The data will be entered into the Visitor Access Control System (VACS-D) database. Please see the Security Records System of Records Notice (State-36) at https://www.state.gov/wp-content/uploads/2019/05/Security-Records-STATE-36.pdf, for additional information.

Note that requests for reasonable accommodation received after the dates indicated in this notice will be considered but might not be possible to fulfill.

(Authority: 5 U.S.C. 1009, 22 U.S.C. 2651a, and 41 CFR 102-3.150)

Adam M. Howard,
Executive Secretary, Advisory Committee on Historical Diplomatic Documentation, Department of State.

[FR Doc. 2024-04279 Filed 2-28-24; 8:45 am]

BILLING CODE 4710-34-P